DEPARTMENT OF HOMELAND SECURITY

Coast Guard

33 CFR Part 146

[Docket Number USCG-2008-1088]

RIN 1625-AB28

Notice of Arrival on the Outer Continental Shelf

AGENCY: Coast Guard, DHS.

ACTION: Notice of proposed rulemaking.

SUMMARY: The Coast Guard proposes to enhance maritime domain safety and security awareness on units and personnel engaging in activities on the Outer Continental Shelf by proposing regulations which will require notice of arrival for units planning to engage in Outer Continental Shelf activities. The proposed rules would implement provisions of the Security and Accountability for Every Port Act of 2006 and increase overall maritime domain awareness by requiring owners or operators of United States and foreign flag floating facilities, mobile offshore drilling units, and vessels to submit notice of arrival information to the National Vessel Movement Center prior to engaging in Outer Continental Shelf activities.

DATES: Comments and related material must either be submitted to our online docket via http://www.regulations.gov on or before September 21, 2009 or reach the Docket Management Facility by that date.

Comments sent to the Office of Management and Budget (OMB) on collection of information must reach OMB on or before September 21, 2009.

ADDRESSES: You may submit comments identified by Coast Guard docket number USCG-2008-1088 using any one of the following methods:

(1) Federal eRulemaking Portal http://www.regulations.gov;

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these methods. For instructions on submitting comments, see the “Public Participation and Request for Comments” portion of the SUPPLEMENTARY INFORMATION section below for instructions on submitting comments.

Collection of Information Comments: If you have comments on the collection of information discussed in section V.D. of this notice of proposed rulemaking (NPRM), you must also send comments to the Office of Information and Regulatory Affairs (OIRA), Office of Management and Budget. To ensure that your comments to OIRA are received on time, the preferred methods are by e-mail to oira_submission@omb.eop.gov (include the docket number and “Attention: Desk Officer for Coast Guard, DHS” in the subject line of the e-mail) or fax at 202-395-6566. An alternate, though slower, method is by U.S. mail to the Office of Information and Regulatory Affairs, Office of Management and Budget, 725 17th Street, NW., Washington, DC 20503, ATTN: Desk Officer, U.S. Coast Guard.

FOR FURTHER INFORMATION CONTACT: If you have questions on this proposed rule, call or e-mail Mr. James M. Magill, Vessel and Facility Operating Standards Division (CG-5222), Coast Guard; telephone 202-372-1414, e-mail James.M.Magill@uscg.mil. If you have questions on viewing or submitting material to the docket, call Ms. Renee V. Wright, Program Manager, Docket Operations, telephone 202-366-9826.

SUPPLEMENTARY INFORMATION:

Table of Contents for Preamble

I. Public Participation and Request for Comments

A. Submitting Comments

B. Viewing Comments and Documents

C. Privacy Act

D. Public Meeting

II. Abbreviations

III. Background

IV. Discussion of Proposed Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials. All comments received will be posted, without change, to http://www.regulations.gov and will include any personal information you have provided.

A. Submitting Comments

If you submit a comment, please include the docket number for this rulemaking (USCG-2008-1088), indicate the specific section of this document to which each comment applies, and provide a reason for each suggestion or recommendation. You may submit your comments and material online or by fax, mail, or hand delivery, but please use only one of these means. We recommend that you include your name and a mailing address, an e-mail address, or a phone number in the body of your document so that we can contact you if we have questions regarding your submission.

To submit your comments online, go to http://www.regulations.gov, select the Advanced Docket Search option on the right side of the screen, insert “USCG-2008-1088” in the Docket ID box, press Enter, and then click on the balloon shape in the Actions column. If you submit your comments by mail or hand delivery, submit them in an unbound format, no larger than 8½ by 11 inches, suitable for copying and electronic filing. If you submit them by mail and would like to know that they reached the Facility, please enclose a stamped, self-addressed postcard or envelope.

We will consider all comments and material received during the comment period and may change this proposed rule based on your comments.

B. Viewing Comments and Documents

To view comments, as well as documents mentioned in this preamble as being available in the docket, go to http://www.regulations.gov, select the Advanced Docket Search option on the right side of the screen, insert USCG-2008-1088 in the Docket ID box, press Enter, and then click on the item in the Docket ID column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

C. Privacy Act

Anyone can search the electronic form of all comments received into any of our dockets by the name of the individual submitting the comment (or signing the comment, if submitted on behalf of an association, business, labor union, etc.). You may review a Privacy Act notice regarding our public dockets in the January 17, 2008 issue of the Federal Register (73 FR 3316).

D. Public Meeting

We do not now plan to hold a public meeting. But you may submit a request for one to the docket using one of the methods specified under ADDRESSES. In your request, explain why you believe a public meeting would be beneficial. If we determine that one would aid this rulemaking, we will hold one at a time and place announced by a later notice in the Federal Register.

II. Abbreviations

DHS Department of Homeland Security

FR Federal Register

ISM International Safety Management

ISSC International Ship Security Certificate

MMS Minerals Management Service

MODU Mobile Offshore Drilling Unit

NAICS North American Industry Classification System

NOA Notice of Arrival

NOA OCS Notice of Arrival on the Outer Continental Shelf

NPRM Notice of Proposed Rulemaking

NTTAA National Technology Transfer and Advancement Act, 15 U.S.C. 272 note

NVMC National Vessel Movement Center

OCS Outer Continental Shelf

OIRA Office of Information and Regulatory Affairs

OMB Office of Management and Budget

RFA Regulatory Flexibility Act, 5 U.S.C. 601-612

SAFE Port Act Security and Accountability For Every Port Act of 2006, Pub. L. No. 109-347, 120 Stat. 1884 (2006)

U.S.C. United States Code

U.S.C.A. United States Code Annotated

III. Background

Congress and the President enacted the Security and Accountability for Every Port Act of 2006 (SAFE Port Act), Public Law No. 109-347, 120 Stat. 1884 on October 13, 2006. Section 109 of the SAFE Port Act ¹ requires publication, within 180 days of enactment, of regulations that “update and finalize” notice of arrival (NOA) procedures for foreign vessels ² on the Outer Continental Shelf (OCS). Additionally, the SAFE Port Act requires that the regulations “be consistent with information required under the Notice of Arrival section 160.206 of title 33, Code of Federal Regulations as in effect of the date of enactment of the Act.”

¹ 33 U.S.C. 1223 note (West 2009).

² As defined in 1 U.S.C. 3 (and reiterated in part 140 of this subchapter) a vessel is “every description of watercraft or other artificial contrivance used, or capable of being used, as a means of transportation on water.” This definition includes those units we propose to regulate with this rulemaking (i.e., floating facilities, MODUs, and vessels engaging in OCS activities).

SAFE Port Act Section 109

The legislative history for the SAFE Port Act relating to the “update and finalize” language found in section 109 provides no specific direction for implementing that section. The Senate version of the bill contains the section 109 provisions and the House of Representatives bill does not. The Congressional record does not otherwise elucidate the requirement. The House of Representatives Conference Report reveals only that both houses of Congress adopted section 109 without additional discussion.³

³ H.R. 4954, 152nd Cong. (2006).

Other Coast Guard NOA OCS Regulations, 33 CFR 146.202

The Coast Guard does, however, have existing OCS regulations to inform this proposed rule. On March 4, 1982, in response to enactment of the Outer Continental Shelf Lands Act Amendments of 1978, the Coast Guard published a final rule entitled Outer Continental Shelf Activities (47 FR 9366). The rule impacted requirements for design, equipment, operations, manning, inspections and investigations for facilities, vessels, and other units (domestic and foreign) engaged in OCS activities. The rule is intended to ensure that foreign mobile offshore drilling units operating on the OCS meet the manning and safety standards comparable to those met by U.S. units. One provision, 33 CFR 146.202, made effective by the 1982 final rule, specifically addresses NOA or relocation of any MODU on the OCS. That section provides that an owner of any MODU engaged in OCS activities shall, 14 days before arrival of the MODU on the OCS or as soon thereafter as practicable, notify the District Commander for the area in which the MODU will operate of: (1) The MODU's name, nationality, and designation assigned for identification under 30 CFR 250.37; (2) the location and year that the MODU was built; (3) the name and address of the owner, and the owner's local representative, if any; (4) classification or inspection certificates currently held by the MODU; (5) the location and date that operations are expected to commence, and their anticipated duration; and (6) the location and date that the MODU will be available and ready for inspection by the Coast Guard. In addition, once a MODU is located on the OCS, the owner of the unit shall notify the District Commander before relocating the unit. Section 146.202 is the only Coast Guard NOA requirement for foreign vessels (specifically MODUs) on the OCS effective at this time, and its purpose is to assist District Commanders in gathering information on MODUs prior to inspection of those units.

Consistency With 33 CFR 160.206

The Coast Guard also has recently updated NOA rules. In response to the terrorist attacks of September 11, 2001, the Coast Guard published, on February 28, 2003, the final rule entitled Notification of Arrival in U.S. Ports (68 FR 9537). The rule enhanced notification of arrival and departure requirements for U.S. and foreign vessels bound for, or departing from, ports or places in the United States. The rule also increased, from 24 hours to 96 hours, the advance notice a vessel must submit to the National Vessel Movement Center (NVMC); described the timeframes for updating an NOA; and added more information to the list of items that must be submitted, as part of the NOA, to the NVMC. Pursuant to that rule, specifically 33 CFR 160.206, the information items submitted to the NVMC include: Vessel information; voyage information; cargo information; information for each crewmember onboard; information for each person onboard in addition to the crew; operational condition of equipment; International Safety Management (ISM) code notice; Cargo Declaration; and International Ship and Port Facility code (ISPS) notice. The Coast Guard collects this information to ensure, to the extent practicable, public safety, security and the uninterrupted flow of commerce.

Coast Guard Action

After considering the legislative history related to SAFE Port Act section 109 and current NOA rules, the Coast Guard has determined that pursuant to section 109 of the SAFE Port Act, “updating and finalizing” our current NOA OCS rules requires proposing and finalizing NOA OCS rules, which will be: (1) In addition to those found at § 146.202 for MODUs, and (2) consistent with the NOA requirements of § 160.206 for vessels bound for, or departing from, ports or places in the United States.

This rulemaking begins the process of meeting those section 109 requirements. It also proposes extending those NOA OCS requirements to U.S. floating facilities, MODUs, and vessels (arriving on, and engaging in, OCS activities from foreign ports or places) under the authority of the Outer Continental Shelf Lands Act, 43 U.S.C. 1356 (2007) and the Ports and Waterways Safety Act, 33 U.S.C. 1226 (2007). Extending the NOA OCS requirements to U.S. vessels is essential for overall maritime domain safety and security awareness. Moreover, obtaining knowledge of all individuals and vessels engaging in OCS activities will better equip the Coast Guard to prevent and respond to a safety or security incident on the OCS.

IV. Discussion of Proposed Rule

The Coast Guard is the lead Federal agency for maritime safety and security on the OCS, and is concerned with the safe operation and manning of vessels engaged in OCS activities. As such, the Coast Guard remains focused on monitoring the safe operation of vessels entering the United States OCS, and on protecting the United States from vessels that could be used as weapons, or as a point of entry in attacks against the United States. Consistent with these concerns and the mandates of the SAFE Port Act, this rulemaking proposes new NOA requirements for certain floating facilities, MODUs, and vessels engaging in OCS activities as a method of increasing U.S. maritime domain safety and security awareness. These amendments will assist the Coast Guard in responding to an OCS incident and enhance public safety, security, and the uninterrupted flow of commerce.

Consistent with 33 CFR part 160, subpart C, this rulemaking specifically proposes that owners or operators of U.S. and foreign flag floating facilities, MODUs, and vessels engaging in OCS activities, with the exception of those U.S. units traveling directly from U.S. ports or places, notify the NMVC at least 96 hours before their intended arrival on the OCS. If voyage time to the OCS is less than 96 hours, then this rulemaking proposes shorter notice requirements. U.S. flag units arriving on the OCS directly from a U.S. port or place will not be required to submit the safety and security information proposed in this rule because the Coast Guard has greater maritime domain awareness over these vessels coming from a U.S. port (as they will have previously submitted similar safety and security information items under 33 CFR 160.202(a) and 160.206, unless exempted under § 160.203), and as such they represent a comparatively lower safety and security risk.

Proposed §§ 146.103, 146.104, 146.215, and 146.405

In accordance with section 109 of the SAFE Port Act, the Coast Guard proposes that the information items submitted for purposes of NOA OCS by owners or operators of floating facilities, MODUs, and vessels engaging in OCS activities be consistent, to the extent practicable, with information currently submitted under 33 CFR 160.206 for U.S. and foreign vessels bound for, or departing from, ports or places in the United States.

NOA for U.S. and Foreign Facilities and MODUs

Specifically, in §§ 146.103, 146.104, and 146.215 for U.S. and foreign floating facilities and MODUs, we propose:

When and How To Submit the NOA

If the voyage time to the OCS is 96 hours or greater, we propose that the owner or operator planning to conduct OCS activities submit an initial NOA to the NVMC not less than 96 hours in advance of their arrival on the OCS. If the voyage time is less than 96 hours, we propose that the owner or operator planning to conduct OCS activities submit an initial NOA to the NVMC not less than 24 hours in advance of their arrival on the OCS.

We propose that the owner or operator electronically submit the NOA to the NVMC at http://www.nvmc.uscg.gov/ by clicking on the link labeled “Submit NOA online” and following the instructions for submission.

Information Items Submitted to NVMC

The Coast Guard proposes that the NOA submission include the following information: The location of the floating facility or MODU at the time the NOA is reported; the area designation and block number where the unit will operate, if applicable; the floating facility's name, if any; the date when OCS activities are expected to begin and end; the names of the last two ports or places visited and the associated dates of arrival and departure; select information for each individual onboard the floating facility or MODU; the date of issuance of the International Safety Management Certificate; and the date of issuance of the International Ship Security Certificate.

Updating an NOA

There may be instances where the owner or operator becomes aware that the floating facility or MODU will not arrive on the OCS within the timeframe originally reported to the NVMC. In those instances, we propose that the owner or operator update the NOA by revising and re-submitting the NOA. If the new estimated time of arrival on the OCS differs by more than 24 hours from the initial or most recently submitted NOA, then we propose that the owner or operator submit a revised NOA not less than 24 hours before the floating facility or MODU arrives at their destination on the OCS. If the new estimated time of arrival on the OCS differs by less than 24 hours from the initial or most recently submitted NOA, then we propose that the owner or operator of the floating facility or MODU submit an updated NOA not less than 12 hours before arrival on the OCS.

We propose that owners and operators refrain from submitting updated NOAs for changes in arrival times that are less than 6 hours; changes in the location of the vessel or floating facility at the time of reporting; and changes in personnel positions.

NOA for U.S. and Foreign Vessels

For consistency, in proposed § 146.405, NOA for U.S. and foreign vessels engaging in OCS activities, we have directly referenced 33 CFR Table 160.206 as the proposed information to be submitted by the vessel owner or operator. We propose that each item listed in the table be submitted with the exception of item (2)(iii), voyage information for each port or place in the United States to be visited, and item (6), the state and operational condition of equipment as required by § 164.35. Each vessel should have access to the remaining information items found in the table, because those items are the same as that which is currently required from U.S. and foreign vessels bound for, or departing from, ports or places in the United States.

We propose that the method and timeframes for submission of the NOA to the NVMC be consistent with those proposed for floating facilities and MODUs.

Towing Vessels on the OCS

In each of the preceding sections, we propose that owners and operators of towing vessels controlling a unit (i.e., floating facility, MODU, or other vessel), or units, required to submit a NOA under this subpart submit only one combined NOA containing the information required for the towing vessel and each unit under its control.

Specifically, the combined NOA would include the information items required for vessels under proposed § 146.405 (for vessels) as well as those information items required for floating facilities under §§ 146.103 or 146.104, or those required for MODUs under § 146.215, as appropriate. Towing vessels with a vessel in tow will submit the NOA information items found in § 146.405 for both vessels.

V. Regulatory Analyses

We developed this proposed rule after considering numerous statutes and executive orders related to rulemaking. Below we provide analyses based on 13 of these statutes or executive orders.

A. Regulatory Planning and Review

This proposed rule is not a significant regulatory action under section 3(f) of Executive Order 12866, Regulatory Planning and Review, and does not require an assessment of potential costs and benefits under section 6(a)(3) of that Order. The Office of Management and Budget has not reviewed it under that Order.

The Coast Guard proposes this rulemaking as a method of enhancing maritime safety and security and meeting the Congressional mandates of the SAFE Port Act. This rulemaking would require certain U.S. and foreign owners or operators of floating facilities, MODUs, and vessels to submit NOA information to the NVMC prior to engaging in OCS activities. Details on the purpose, background, and proposed requirements of this rulemaking are summarized elsewhere in this NPRM.

Based on industry information from the National Offshore Advisory Committee (NOSAC), we estimate that there are 7 to 12 arrivals on the OCS each month for a total of 84 to 144 annual arrivals on the OCS each year. We also estimate that approximately 95 percent of the OCS units affected under this rulemaking would be foreign flag.

The additional costs of this rulemaking to industry are the proposed NOA reporting requirements. We estimate that one NOA requires 30 minutes to complete plus a transmittal fee of $2 per submission.⁴ Similar to other NOA reporting analyses, we use an average loaded wage rate of approximately $31 per hour to estimate the labor costs for NOA reporting activities.

⁴ Estimated sources: (1) Collection of Information, OMB Control Number 1625-0100, “Advance Notice of Arrival and Electronic Transmission of Vessel Transit Data”; and (2) Notice of Proposed Rulemaking, “Vessel Requirements for Notices of Arrival and Departure, and Automatic Identification System” [USCG-2005-21869].

Based on the arrival data and the reporting time and cost information, we estimate the annual cost of this rulemaking to be $1,470 to $2,520 (non-discounted). We estimate the present value 10-year cost of this rulemaking to be $10,300 to $17,700 at a 7 percent discount rate (rounded).⁵

⁵ We estimate present value 10-year costs are $12,500 to $21,500 at a three percent discount rate (rounded).

We expect the primary benefit of this rulemaking would be enhanced maritime domain awareness. This rule would provide assurance that OCS units communicate the necessary information to the Coast Guard. We also expect the proposed NOA requirements would provide the Coast Guard additional information and detail on the volume and type of traffic on the OCS.

B. Small Entities

Under the Regulatory Flexibility Act (RFA; 5 U.S.C. 601-612), we have considered whether this proposed rule would have a significant economic impact on a substantial number of small entities. The term “small entities” comprises small businesses, not-for-profit organizations that are independently owned and operated and are not dominant in their fields, and governmental jurisdictions with populations of less than 50,000.

The Coast Guard expects that the proposed rule will not have a significant economic impact on a substantial number of small entities.

We estimate most affected owners and operators would be classified under one of the following North American Industry Classification System (NAICS) 6-digit codes: 211111—Crude Petroleum and Natural Gas Extraction, 336611—Ship Building and Repairing, or 333132—Oil and Gas Field Machinery and Equipment Manufacturing. According to the Small Business Administration (SBA) size standards, a company with NAICS code 211111 or 333132 employing less than 500 employees or NAICS code 336611 employing less than 1,000 employees is considered a small entity.

As discussed elsewhere in this NPRM, we estimate that approximately 95 percent of the affected OCS units under this rulemaking are foreign owned. The RFA clarifies that a small business is an entity organized for profit, with a place of business located in the United States, and that operates primarily within the United States or that makes a significant contribution to the U.S. economy through payment of taxes or use of American products, materials or labor. We anticipate the majority of affected entities are not located within the United States nor do they make a significant contribution through payment of U.S. taxes.

We expect the proposed rule would not have a significant economic impact on any entities since the costs of this rulemaking are small and the cost burden per NOA submission is only about $18.

We also investigated other types of data sources and information that would be useful to estimate the impacts of this rulemaking on small entities. For example, MODU units that operate on the OCS are capital intensive and have high day rates. The average day rate of floating rigs operating on the OCS may exceed $250,000.⁶ For expository purposes, we analyzed the annual cost-revenue impacts of this rulemaking on owners and operators of MODUs that have a Coast Guard Certificate of Compliance. Based on this information, we estimated that the small annual reporting cost of this rulemaking would have no significant economic impact on the annual revenues of these owners and operators.

⁶ Source: http://www.rigzone.com/data/dayrates/ (2008).

Therefore, the Coast Guard certifies under 5 U.S.C. 605(b) that this proposed rule would not have a significant economic impact on a substantial number of small entities. If you think that your business, organization, or governmental jurisdiction qualifies as a small entity and that this rulemaking would have a significant economic impact on it, please submit a comment to the Docket Management Facility at the address under ADDRESSES. In your comment, explain why you think it qualifies and how and to what degree this rulemaking would economically affect it.

C. Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please consult Mr. James M. Magill, Vessel and Facility Operating Standards Division (CG-5222), telephone 202-372-1414. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for a collection of information under the Paperwork Reduction Act of 1995 (44 U.S.C. 3501-3520). It would require a revision to an existing collection. The following is a summary of the burden associated with the revision.

As defined in 5 CFR 1320.3(c), “collection of information” comprises reporting, recordkeeping, monitoring, posting, labeling, and other, similar actions. The title and description of the information collection, a description of those who must collect the information, and an estimate of the total annual burden follow. The estimate covers the time for reviewing instructions, searching existing sources of data, gathering and maintaining the data needed, and completing and reviewing the collection.

This proposed rule would amend the collection of information requirements for vessel owners and operators. The rule would require modifying the burden in the previously approved collection under OMB Control Number 1625-0100.

Title: Advance Notice of Arrival and Electronic Transmission of Vessel Transit Data.

OMB Control Number: 1625-0100.

Summary of the Collection of Information: The proposed rule would require vessel owners and operators to submit an advance notice of arrival electronically to the NVMC. This requirement would require a change in the previously approved OMB Collection 1625-0100 because it expands the NOA requirement to include units engaging in OCS activities.

Proposed Use of Information: The Coast Guard would use the information to enhance maritime domain awareness.

Description of the Respondents: The respondents are vessel owners and operators who arrive on the OCS from foreign ports and engage in OCS activities.

Number of Respondents: The proposed rule would increase the number of respondents in this OMB-approved collection by no more than 144 respondents. See the “Regulatory Planning and Review” section for more details on the respondents affected by this proposed rule.

Frequency of Response: The proposed rule would increase the annual number of responses in this OMB-approved collection by no more than 144 responses. OCS units such as MODUs and floating production facilities may stay on the OCS for long periods, such as a year or more, so we do not expect these units to have more than one NOA submittal per year.

Burden of Response: We estimate the burden of this proposed rule to be the preparation and submission of the NOA. Based on discussion in the “Regulatory Analysis” section of this NPRM, we estimate that it would take 30 minutes to prepare and submit an NOA to the NVMC.

Estimate of Total Annual Burden: The annual total burden of this proposed rule would be no more than 72 hours.

As required by the Paperwork Reduction Act of 1995 (44 U.S.C. 3507(d)), we will submit a copy of this proposed rule to the Office of Management and Budget (OMB) for review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. Before the Coast Guard could enforce the collection of information requirements in this proposed rule, OMB would need to approve the Coast Guard's request to collect this information.

E. Federalism

A rule has implications for federalism under Executive Order 13132, Federalism, if it has a substantial direct effect on State or local governments and would either preempt State law or impose a substantial direct cost of compliance on them. We have analyzed this proposed rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

G. Taking of Private Property

This proposed rule would not effect a taking of private property or otherwise have taking implications under Executive Order 12630, Governmental Actions and Interference with Constitutionally Protected Property Rights.

H. Civil Justice Reform

This proposed rule meets applicable standards in sections 3(a) and 3(b)(2) of Executive Order 12988, Civil Justice Reform, to minimize litigation, eliminate ambiguity, and reduce burden.

I. Protection of Children

We have analyzed this proposed rule under Executive Order 13045, Protection of Children from Environmental Health Risks and Safety Risks. This rule is not an economically significant rule and would not create an environmental risk to health or risk to safety that might disproportionately affect children.

J. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

K. Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

If you disagree with our analysis of the voluntary consensus standards listed above or are aware of voluntary consensus standards that might apply but are not listed, send a comment to the docket using one of the methods under ADDRESSES. In your comment, please explain why you disagree with our analysis and/or identify voluntary consensus standards we have not listed that might apply.

M. Environment

We have analyzed this proposed rule under Department of Homeland Security Directive 023-01 and Commandant Instruction M16475.lD, which guide the Coast Guard in complying with the National Environmental Policy Act of 1969 (NEPA) (42 U.S.C. 4321-4370f), and have made a preliminary determination that this action is one of a category of actions which do not individually or cumulatively have a significant effect on the human environment. Therefore, this rule is categorically excluded, under section 2.B.2. Figure 2-1, paragraphs 34(a) and (d), of the Instruction and neither an environmental assessment nor an environmental impact statement is required. This proposed rule requires neither an environmental assessment nor an environmental impact statement because it merely outlines the procedures that owners or operators of floating facilities, mobile offshore drilling units, and vessels will follow in submitting notice of arrival information to the Coast Guard's National Vessel Movement Center. A preliminary “Environmental Analysis Check List” supporting this determination is available in the docket where indicated under the “Public Participation and Request for Comments” section of this preamble. We seek any comments or information that may lead to discovery of a significant environmental impact from this proposed rule.

List of Subjects for 33 CFR Part 146

Continental shelf, Marine safety, Occupational health and safety, Reporting and recordkeeping requirements, Vessels.

For the reasons discussed in the preamble, the Coast Guard proposes to amend 33 CFR part 146, as follows:

PART 146—OPERATIONS

1. The authority citation for part 146 is revised to read as follows:

Authority: 33 U.S.C. 1223,1226; 43 U.S.C. 1333, 1348, 1350, 1356; Sec. 109, Pub. L. No. 109-347, 120 Stat. 1884; Department of Homeland Security Delegation No. 0170.1.

2. Add § 146.103 to read as follows:

§ 146.103 Safety and Security notice of arrival for U.S. floating facilities.

(a) General. At least 96 hours before a U.S. floating facility arrives on the OCS, excluding those U.S. floating facilities arriving directly from a U.S. port or place to engage in OCS activities, the owner or operator of the floating facility, except as provided in paragraph (f) of this section, must submit the following information to the National Vessel Movement Center (NVMC):

(1) The location, latitude and longitude, of the floating facility at the time the notice of arrival (NOA) is reported;

(2) The area designation and block number or lease number, assigned under 30 CFR 250.154 for identification, where the floating facility plans to perform OCS activities;

(3) The floating facility's name, if any;

(4) The date when OCS operations of the floating facility are expected to begin and end;

(5) Names of the last two ports or places visited and the associated dates of arrival and departure;

(6) The following information for each individual onboard:

(i) Full name;

(ii) Date of birth;

(iii) Nationality;

(iv) Passport number or marine documentation number (type of identification and number);

(v) Position or duties on the floating facility; and

(vi) Name of the port, or place, and country where the individual embarked.

(7) The date of issuance of the floating facility's International Safety Management Certificate (ISM), if any, and Document of Compliance certificate and the name of the flag administration, or its recognized representative, that issued those certificates; and

(8) The date of issuance of the floating facility's International Ship Security Certificate (ISSC), if any, and the name of the flag administration, or the recognized security organization representing the flag administration, that issued the ISSC.

(b) Methods of submission. The notice must be submitted to the NVMC by electronic Notice of Arrival and Departure format using methods specified in the NVMC's Web site at http://www.nvmc.uscg.gov/.

(c) Updates to a submitted NOA. Unless otherwise specified in this section, whenever the most recently submitted NOA information becomes inaccurate, the owner or operator of a U.S. floating facility must revise and re-submit the NOA within the times required in paragraph (e) of this section. An owner or operator does not need to revise or re-submit an NOA for the following:

(1) A change in submitted arrival time that is less than 6 hours;

(2) Changes in the location, latitude and longitude, of the floating facility at the time the NOA is reported; or

(3) Changes to personnel positions or duties on the floating facility.

(d) Required reporting time of an initial NOA. The owner or operator of a U.S. floating facility subject to this section must submit an initial NOA:

(1) If the voyage time is more than 96 hours, owners or operators of a floating facility must submit an initial NOA at least 96 hours before the U.S. floating facility arrives at the OCS location where it plans to perform OCS activities; or

(2) If the voyage time is less than 96 hours, owners and operators of a floating facility must submit an initial NOA at least 24 hours before the U.S. floating facility arrives at the OCS location where it plans to perform OCS activities.

(e) Required reporting time of an update to an NOA. Each floating facility subject to this section must submit an NOA update:

(1) If the most recently submitted NOA, or NOA update, differs by 24 hours or more from the current estimated time of arrival, the owner or operator of the floating facility must provide an updated NOA as soon as practicable but at least 24 hours before the U.S. floating facility arrives at the OCS location where it plans to perform OCS activities; or

(2) If the most recently submitted NOA, or NOA update, differs by less than 24 hours from the current estimated time of arrival, the owner or operator of the floating facility must provide an update as soon as practicable but at least 12 hours before the U.S. floating facility arrives at the OCS location where it plans to perform OCS activities.

(f) Towing vessels. When a towing vessel controls a U.S. floating facility required to submit an NOA under this subpart, the owner or operator of the towing vessel is responsible for submitting only one NOA containing the NOA information items required for the towing vessel, under § 146.405, and the U.S. floating facility under paragraph (a) of this section.

(g) This section does not apply to U.S. floating facilities merely transiting the waters superjacent to the OCS and not engaged in OCS activities.

3. Add § 146.104 to read as follows:

§ 146.104 Safety and Security notice of arrival for foreign floating facilities.

(a) General. At least 96 hours before a foreign floating facility arrives on the OCS to engage in OCS activities, the owner or operator of the floating facility, except as provided in paragraph (f) of this section, must submit the following information to the National Vessel Movement Center (NVMC):

(1) The location, latitude and longitude, of the foreign floating facility at the time the NOA is reported;

(2) The area designation and block number or lease number, assigned under 30 CFR 250.154 for identification, where the foreign floating facility plans to perform OCS activities;

(3) The foreign floating facility's name, if any;

(4) The date when OCS operations of the foreign floating facility are expected to begin and end;

(5) Names of the last two ports or places visited and the associated dates of arrival and departure;

(6) The following information for each individual onboard:

(i) Full name;

(ii) Date of birth;

(iii) Nationality;

(iv) Passport number or marine documentation number (type of identification and number);

(v) Position or duties on the foreign floating facility; and

(vi) Name of the port, or place, and country where the individual embarked.

(7) The date of issuance of the foreign floating facility's International Safety Management Certificate (ISM), if any, and Document of Compliance certificate and the name of the flag administration, or its recognized representative, that issued those certificates; and

(8) The date of issuance of the foreign floating facility's International Ship Security Certificate (ISSC), if any, and the name of the flag administration, or the recognized security organization representing the flag administration, that issued the ISSC.

(b) Methods of submission. The notice must be submitted to the National Vessel Movement Center (NVMC) by electronic Notice of Arrival and Departure format using methods specified at the NVMC's Web site at http://www.nvmc.uscg.gov/.

(c) Updates to a submitted NOA. Unless otherwise specified in this section, whenever the most recently submitted NOA information becomes inaccurate, the owner or operator of the foreign floating facility must revise and re-submit the NOA within the times required in paragraph (e) of this section. An owner or operator does not need to revise or re-submit an NOA for the following:

(1) A change in submitted arrival time that is less than 6 hours;

(2) Changes in the location, latitude and longitude, of the foreign floating facility at the time the NOA is reported; or

(3) Changes to personnel positions or duties on the foreign floating facility.

(d) Required reporting time of an initial NOA. The owner or operator of a foreign floating facility subject to this section must submit an initial NOA:

(1) If the voyage time is more than 96 hours, owners or operators of a foreign floating facility must submit an initial NOA at least 96 hours before the foreign floating facility arrives at the OCS location where it plans to perform OCS activities; or

(2) If the voyage time is less than 96 hours, owners or operators of a foreign floating facility must submit an initial NOA at least 24 hours before the foreign floating facility arrives at the OCS location where it plans to perform OCS activities.

(e) Required reporting time of an update to an NOA. The owner or operator of a foreign floating facility subject to this section must submit an NOA update:

(1) If the most recently submitted NOA, or NOA update, differs by 24 hours or more from the current estimated time of arrival, the owner or operator of the foreign floating facility must provide an updated NOA as soon as practicable but at least 24 hours before the floating facility arrives at the OCS location where it plans to perform OCS activities; or

(2) If the most recently submitted NOA, or NOA update, differs by less than 24 hours from the current estimated time of arrival, the owner or operator of the foreign floating facility must provide an updated NOA as soon as practicable but at least 12 hours before the floating facility arrives at the OCS location where it plans to perform OCS activities.

(f) Towing vessels. When a towing vessel controls a foreign floating facility required to submit an NOA under this subpart, the owner or operator of the towing vessel is responsible for submitting only one NOA containing the NOA information items required for the towing vessel, under § 146.405, and the foreign floating facility under paragraph (a) of this section.

(g) This section does not apply to a foreign floating facility merely transiting the waters superjacent to the OCS and not engaged in OCS activities.

4. Add § 146.215 to read as follows:

§ 146.215 Safety and Security notice of arrival for U.S. or Foreign MODUs.

(a) General. At least 96 hours before a MODU arrives on the OCS to engage in OCS activities, excluding those U.S. MODUs arriving directly from a U.S. port or place, to engage in OCS activities, the owner or operator of the MODU, except as provided in paragraph (f) of this section, must submit the following information to the National Vessel Movement Center (NVMC):

(1) The location, latitude and longitude, of the MODU at the time the notice of arrival (NOA) is reported;

(2) The area designation and block number or lease number, assigned under 30 CFR 250.154 for identification, where the MODU plans to perform OCS activities;

(3) The MODU's name, if any;

(4) The date when operations of the MODU are expected to begin and end;

(5) Names of the last two ports or places visited and the associated dates of arrival and departure;

(6) The following information for each individual onboard:

(i) Full name;

(ii) Date of birth;

(iii) Nationality;

(iv) Passport number or marine documentation number (type of identification and number);

(v) Position or duties on the MODU; and

(vi) Name of the port, or place, and country where the individual embarked.

(7) The date of issuance of the MODU's International Safety Management Certificate (ISM), if any, and Document of Compliance certificate and the name of the flag administration, or its recognized representative, that issued those certificates; and

(8) The date of issuance of the MODU's International Ship Security Certificate (ISSC), if any, and the name of the flag administration, or the recognized security organization representing the flag administration, that issued the ISSC.

(b) Methods of submission. The notice must be submitted to the National Vessel Movement Center (NVMC) by electronic Notice of Arrival and Departure format using methods specified in the NVMC's Web site at http://www.nvmc.uscg.gov/.

(c) Updates to a submitted NOA. Unless otherwise specified in this section, whenever the most recently submitted NOA information becomes inaccurate, the owner or operator of the MODU must revise and re-submit the NOA within the times required in paragraph (e) of this section. An owner or operator does not need to revise or re-submit an NOA for the following:

(1) A change in submitted arrival time that is less than 6 hours;

(2) Changes in the location, latitude or longitude, of the MODU at the time the NOA is reported; or

(3) Changes to personnel positions or duties on the MODU.

(d) Required reporting time of an initial NOA. The owner or operator of a MODU subject to this section must submit an initial NOA:

(1) If the voyage time is more than 96 hours, owners and operators of a MODU must submit an initial NOA at least 96 hours before the MODU arrives at the OCS location where it plans to perform OCS activities; or

(2) If the voyage time is less than 96 hours, owners and operators of a MODU must submit an initial NOA at least 24 hours before the MODU arrives at the OCS location where it plans to perform OCS activities.

(e) Required reporting time of an update to an NOA. The owner or operator of a MODU subject to this section must submit an NOA update:

(1) If the most recently submitted NOA, or NOA update, differs by 24 hours or more from the current estimated time of arrival, the owner or operator of the MODU must provide an updated NOA as soon as practicable but at least 24 hours before the MODU arrives at the OCS location where it plans to perform OCS activities; or

(2) If the most recently submitted NOA, or NOA update, differs by less than 24 hours from the current estimated time of arrival, the owner or operator of the MODU must provide an updated NOA as soon as practicable but at least 12 hours before the MODU arrives at the OCS location where it plans to perform OCS activities.

(f) When a towing vessel controls a MODU required to submit an NOA under this subpart, the owner or operator of the towing vessel is responsible for submitting only one NOA containing the information required for the towing vessel, under § 146.405, and the MODU under paragraph (a) of this section.

(g) This section does not apply to MODU's merely transiting the waters superjacent to the OCS and not engaged in OCS activities.

5. Revise the heading in Subpart D to read as follows:

Subpart D—Vessels—Notice of Casualty

6. Add Subpart E to read as follows:

Subpart E—Vessels—Safety and Security Notice of Arrival

§ 146.401 Applicability.

This subpart applies to all U.S. and foreign vessels, except those U.S. vessels traveling directly from a U.S. port or place, bound for a place on the OCS and planning to engage in OCS activities. Vessels under this subpart include, but are not limited to, standby vessels, attending vessels, offshore vessels, pipelay vessels, derrick ships, diving support vessels, oceanographic research vessels, towing vessels, and accommodation vessels. This subpart does not apply to MODUs, which are covered under § 146.215.

§ 146.405 Safety and Security notice of arrival for vessels arriving at a place on the OCS.

(a) General. The owner or operator of each vessel subject to this section must submit an initial NOA to the National Vessel Movement Center (NVMC):

(1) If the voyage time is more than 96 hours, at least 96 hours before the vessel arrives at a place on the OCS to engage in OCS activities;

(2) If the voyage time is less than 96 hours and more than 24 hours, before departure; or

(3) If the voyage time is less than 24 hours, at least 24 hours before the vessel arrives at a place on the OCS.

(b) Information required in an NOA. The following information is required for vessels submitting an NOA:

(1) All the information specified in 33 CFR Table 160.206 with the exception of information required in item (2)(iii) and item (6). Vessel owners and operators should protect any personal information they gather in preparing notices for transmittal to the NVMC so as to prevent unauthorized disclosure of that information;

(2) The Minerals Management Service (MMS) area and either the name of the place, the MMS block number, or the latitude and longitude of the place on the OCS to be visited; and

(3) If any person onboard, including a crewmember, is not required to carry a passport for travel, then passport information required in Table 160.206, items (4)(iv) through (vi), and (5)(iv) through (vi), need not be provided for that person.

(c) Updates to a submitted NOA. Unless otherwise specified in this section, whenever the most recently submitted NOA information becomes inaccurate, the owner or operator of that vessel must revise and re-submit the NOA within the times required in paragraph (e) of this section. An owner or operator does not need to revise and re-submit an NOA for the following:

(1) A change in submitted arrival time that is less than six hours;

(2) Changes in the location, latitude and longitude, of the vessel at the time the NOA is reported; or

(3) Changes to personnel positions or duties on the vessel.

(d) Methods of submission. The notice must be submitted to the NVMC by electronic Notice of Arrival and Departure format using methods specified at the NVMC's Web site at http://www.nvmc.uscg.gov/.

(e) Required reporting time of an NOA update. Each vessel subject to this section must submit an NOA update:

(1) If the most recently submitted NOA, or NOA update, differs by 24 hours or more from the current estimated time of arrival, the owner or operator of the vessel must provide an update as soon as practicable but at least 24 hours before the vessel arrives at the OCS location where it plans to perform OCS activities;

(2) If the most recently submitted NOA, or NOA update, differs by less than 24 hours from the current estimated time of arrival, the owner or operator of the vessel must provide an update as soon as practicable but at least 12 hours before the vessel arrives at the OCS location where it plans to perform OCS activities; or

(3) If the remaining voyage time is less than 24 hours, the owner or operator of the vessel must provide an update as soon as practicable, but at least 12 hours before the vessel arrives at a place on the OCS.

(f) When a towing vessel controls a vessel required to submit an NOA under this subpart, the owner or operator of the towing vessel is responsible for submitting only one NOA containing the information required for the towing vessel and the vessel under its control.

(g) This section does not apply to vessels merely transiting the waters superjacent to the OCS and not engaged in OCS activities.

Dated: June 9, 2009.
J.G. Lantz,
Director of Commercial Regulations and Standards, U.S. Coast Guard.

[FR Doc. E9-14584 Filed 6-19-09; 8:45 am]

BILLING CODE P